DEPARTMENT OF ENERGY

Federal Energy Regulatory Commission

Northern Power Corporation (Xcel Energy) Project No. 2056-016, Minnesota; Notice of Availability of Draft Environmental Assessment

July 31, 2003.

In accordance with the National Environmental Policy Act of 1969 and part 380 of the Federal Energy Regulatory Commission's (Commission) regulations, 18 CFR part 380; FERC Order No. 486 and 52 FR 47,897, the Office of Energy Projects Staff (staff) reviewed the application for a new license for the St. Anthony Falls Hydroelectric Project, located on the Mississippi River in the city of Minneapolis in Hennepin County, Minnesota, and prepared a draft environmental assessment (DEA) for the project. The project does not use or occupy any Federal facilities or lands.

In this DEA, the staff analyzes the potential environmental effects of the existing project and concludes that licensing the project, with staff's recommended measures, would not constitute a major Federal action significantly affecting the quality of the human environment.

A copy of the DEA and application is available for review at the Commission in the Public Reference Room, or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

Any comments should be filed within 30 days from the date of this notice and should be addressed to Magalie R. Salas, Secretary, Federal Energy Regulatory Commission, 888 First Street, NE., Washington, DC 20426. Please affix “St. Anthony Falls Project No. 2056-016” to all comments. For further information, please contact Monte TerHaar by e-mail at monte.terhaar@ferc.gov or phone (202) 502-6035.

The Commission strongly encourages electronic filings. Comments may be filed electronically via the Internet in lieu of paper. See 18 CFR 385.2001(a)(1)(iii) and the instructions on the Commission's Web site under the “e-Filing” link.

Linda Mitry,
Acting Secretary.

[FR Doc. 03-19993 Filed 8-5-03; 8:45 am]

BILLING CODE 6717-01-P